DEPARTMENT OF TRANSPORTATION

Great Lakes St. Lawrence Seaway Development Corporation

Great Lakes St. Lawrence Seaway Development Corporation Advisory Board-Notice of Public Meetings; Correction

AGENCY: Great Lakes St. Lawrence Seaway Development Corporation, DOT.

ACTION: Notice; correction.

SUMMARY: The Great Lakes St. Lawrence Seaway Development Corporation (GLS) published a document in the Federal Register on December 19, 2022, providing notice of public meeting dates for the GLS Advisory Board. The date and location for the third meeting has changed.

FOR FURTHER INFORMATION CONTACT: Kevin O'Malley, Strategic Advisor for Financial and Resource Management, Great Lakes St. Lawrence Seaway Development Corporation, 1200 New Jersey Avenue SE, Suite W62-300, Washington, DC 20590; 202-366-0091.

SUPPLEMENTARY INFORMATION:

Correction

In the Federal Register of December 19, 2022, in FR Doc. 2022-27369, on page 77674, the following corrections are made:

1. In the second column, under the DATES caption, correct the third bullet and its sub bullets to read:

• Wednesday, July 26, 2023, from 3:30 p.m.-5:30 p.m. CDT

○ Requests to attend the meeting must be received by July 21, 2023.

○ Requests for accommodations to a disability must be received by July 21, 2023.

○ If you wish to speak during the meeting, you must submit a written copy of your remarks to GLS by July 21, 2023.

○ Requests to submit written materials to be reviewed during the meeting must be received no later than July 21, 2023.

2. In the third column, correct the ADDRESS caption to read:

“The Wednesday July 26, 2023, meeting will take place in-person in the Millennium Park Room at the Sheraton Grand Chicago Riverwalk hotel, Chicago, Illinois 60611. All other meetings will be held via conference call at the GLS's Headquarters, 1200 New Jersey Ave. SE, Suite W62-300, Washington, DC 20590.”

3. In the third column, under the SUPPLEMENTARY INFORMATION caption, correct the third listed date to read:

“Wednesday, July 26, 2023, from 3:30 p.m.-5:30 p.m. CDT”

Dated: June 29, 2023.
Carrie Lavigne,
Chief Counsel.

[FR Doc. 2023-14143 Filed 7-3-23; 8:45 am]

BILLING CODE 4910-61-P